DEPARTMENT OF TRANSPORTATION

Federal Aviation Administration

14 CFR Part 39

[Docket No. FAA-2012-0695; Directorate Identifier 2011-SW-031-AD]

RIN 2120-AA64

Airworthiness Directives; Agusta S.p.A. Helicopters

AGENCY: Federal Aviation Administration (FAA), DOT.

ACTION: Notice of proposed rulemaking (NPRM).

SUMMARY: We propose to supersede an existing airworthiness directive (AD) for Agusta S.p.A. (Agusta) Model A119 and AW119 MKII helicopters. The existing AD currently requires inspecting the pilot and copilot engine rotary variable differential transformer (RVDT) control box assemblies to determine if the control gear locking pin is in its proper position. Since we issued that AD, Agusta has developed a terminating action for this inspection. The proposed actions are intended to prevent failure of an RVDT control box assembly, loss of manual control of the engine throttle, and subsequent loss of control of the helicopter.

DATES: We must receive comments on this proposed AD by September 4, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received and other information. The street address for the Docket Operations Office (telephone 800-647-5527) is in the ADDRESSES section. Comments will be available in the AD docket shortly after receipt.

For service information identified in this proposed AD, contact Agusta Westland, Customer Support & Services, Via Per Tornavento 15, 21019 Somma Lombardo (VA) Italy, ATTN: Giovanni Cecchelli; telephone 39 0331711133; fax 39 0331 711180; or at http://www.agustawestland.com/technical-bullettins. You may review a copy of the service information at the FAA, Office of the Regional Counsel, Southwest Region, 2601 Meacham Blvd., Room 663, Fort Worth, Texas 76137.

FOR FURTHER INFORMATION CONTACT: Jim Grigg, Manager, FAA, Rotorcraft Directorate, Safety Management Group, 2601 Meacham Blvd., Fort Worth, TX 76137, telephone (817) 222-5126, email jim.grigg@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On July 16, 2010, we issued Emergency AD 2010-15-51, and on August 4, 2010, we issued the Final Rule, Request for Comment, for that AD as amendment 39-16397 (75 FR 50863, August 18, 2010) for all Agusta model A119 and AW119 MKII helicopters. That AD requires inspecting the pilot and co-pilot control box assemblies for the proper positioning of the locking pins, and if the locking pin is recessed or extended in excess of 2.0 millimeters from the face of the pin bore, or missing, replacing the control box assembly. That AD was prompted by a report that an RVDT locking pin that was installed on an AW119 MKII helicopter moved from its proper position, resulting in disconnect between the pilot and co-pilot throttle controls.

Actions Since Existing AD Was Issued

Since we issued AD 2010-15-51, the European Aviation Safety Agency (EASA), which is the Technical Agent for the Member States of the European Union, has issued EASA AD 2011-0095-E, dated May 24, 2011, to permanently correct this unsafe condition for the Agusta A119 and AW MKII helicopters. EASA advises that Agusta has developed a modification to the pilot and co-pilot control box assemblies that will “remedy the problem and prevent recurrence.” This EASA AD requires repetitive inspections of the affected pilot and co-pilot control box assemblies until a terminating action modification is made within 8 calendar months of the effective date of the EASA AD.

FAA's Determination

These helicopters have been approved by the aviation authority of Italy and are approved for operation in the United States. Pursuant to our bilateral agreement with Italy, the EASA, their technical representative, has notified us of the unsafe condition described in the EASA AD. We are proposing this AD because we evaluated all information provided by the EASA and determined the unsafe condition is likely to exist or develop on other helicopters of the same type design.

Related Service Information

We reviewed Agusta Alert Bollettino Tecnico (ABT) No. 119-39 Revision A, dated May 23, 2011 (ABT 119-39). The ABT 119-39 describes procedures for repetitively inspecting the pilot and co-pilot control box assemblies for correct positioning of the engine RVDT control gear locking pin and provides instructions on how to modify the pilot and co-pilot control box assemblies to terminate the repetitive inspections. The EASA classified this ABT as mandatory and issued EAD No. 2011-0095-E, dated May 24, 2011, to ensure the continued airworthiness of these helicopters.

Proposed AD Requirements

This proposed AD would retain the inspection requirements of AD 2010-15-51, which requires a repetitive inspection of the pilot and copilot RVDT control box assembly locking pins for proper position, until both assemblies are modified. Additionally, we are proposing to require, within 8 months, modifying the pilot control box assembly, P/N 109-0010-81-103, and the co-pilot control box assembly, P/N 109-0010-81-107, in accordance with specified procedures contained in the ABT to terminate the requirements for the repetitive inspections.

Costs of Compliance

We estimate that this proposed AD would affect 49 helicopters of U.S. Registry. We estimate that operators may incur the following costs in order to comply with this AD. Inspecting the two RVDT control box assemblies would require about 1.5 hours at an average labor rate of $85 per work hour, for a cost per helicopter of about $128 and a cost to the U.S. fleet of about $6,272 per inspection cycle.

Modification of the pilot and co-pilot RVDT control box assemblies would require about 8 hours at an average labor rate of $85 per work hour, and required parts would cost about $8, for a total cost per helicopter of $688 and a cost to the U.S. fleet of $33,712.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16397 (75 FR 50863, dated August 18, 2010), and adding the following new AD:

Agusta S.P.A. Helicopters: Docket No. FAA-2012-0695; Directorate Identifier 2011-SW-031-AD.

(a) Applicability

This AD applies to Agusta Model A119 and AW119 MKII helicopters, with pilot control box assembly (control box), part number (P/N) 109-0010-81-103, and co-pilot control box, P/N 109-0010-81-107, installed, certificated in any category.

(b) Unsafe Condition

This AD defines the unsafe condition as a rotary variable differential transformer (RVDT) locking pin, which could move out of position and result in loss of manual throttle control of the engine and subsequent loss of control of the helicopter.

(c) Other Affected ADs

This AD supersedes AD 2010-15-51, Amendment 39-16397 (75 FR 50863, dated August 18, 2010).

(d) Compliance

You are responsible for performing each action required by this AD within the specified compliance time unless it has already been accomplished prior to that time.

(e) Required Actions

(1) Within 5 hours time-in-service (TIS), and thereafter at intervals not to exceed 50 hours TIS, remove the cover of the pilot and co-pilot RVDT control box assemblies and inspect the locking pins for proper position by following the Compliance Instructions, Parts I and II, paragraphs 2. through 4.1 for the pilot control box assembly and paragraphs 5. through 7.1 for the co-pilot control box assembly, of Agusta Bollettino Tecnico No. 119-39, Revision A, dated May 23, 2011.

(2) If during the inspection the locking pin is recessed or extended in excess of 2.0 millimeters from the face of the pin bore, or missing, before further flight, replace the RVDT control box with an airworthy RVDT control box that has been modified in accordance with paragraph (e)(3) of this AD.

(3) Within 8 months,

(i) Modify the pilot RVDT control box assembly, P/N 109-0010-81-103, by reference to Figures 1 through 7 and in accordance with the Compliance Instructions, Part III, paragraphs 5.1 through 5.16 of Agusta Bollettino Tecnico No. 119-39 Revision A, dated May 23, 2011; and

(ii) Modify the co-pilot RVDT control box assembly, P/N 109-0010-81-107, by reference to Figures 1 through 7 and in accordance with the Compliance Instructions, Part III, paragraphs 3.1 through 3.16 of Agusta Bollettino Tecnico No. 119-39, Revision A, dated May 23, 2011.

(4) Modifying the pilot and copilot RVDT control box assemblies in accordance with paragraph (e)(3) of this AD constitutes terminating action for the requirements of this AD.

(f) Alternative Methods of Compliance (AMOCs)

(1) The Manager, Safety Management Group, FAA, may approve AMOCs for this AD. Send your proposal to: Jim Grigg, Manager, FAA, Rotorcraft Directorate, Safety Management Group, 2601 Meacham Blvd., Fort Worth, TX 76137, telephone (817) 222-5126, email jim.grigg@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) For service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins. You may review a copy of the service information at the FAA, Office of the Regional Counsel, Southwest Region, 2601 Meacham Blvd., Room 663, Fort Worth, Texas 76137.

(2) The subject of this AD is addressed in European Aviation Safety Agency AD 2011-0095-E, dated May 24, 2011.

(h) Subject

Joint Aircraft Service Component (JASC) Code: 6700: Rotors Flight Control.

Issued in Fort Worth, Texas, on June 22, 2012.
M. Monica Merritt,
Acting Manager, Rotorcraft Directorate, Aircraft Certification Service.

[FR Doc. 2012-16314 Filed 7-2-12; 8:45 am]

BILLING CODE 4910-13-P